DEPARTMENT OF EDUCATION

Office of Safe and Drug-Free Schools; Overview Information; Mentoring Programs; Notice Inviting Applications for New Awards for Fiscal Year (FY) 2004

Catalog of Federal Domestic Assistance (CFDA) Number: 84.184B.

Dates: Applications Available: May 28, 2004.

Deadline for Transmittal of Applications: July 7, 2004.

Deadline for Intergovernmental Review: June 28, 2004.

Eligible Applicants: (1) Local educational agencies (LEAs); (2) nonprofit, community-based organizations (CBOs), which may include faith-based organizations; and (3) a partnership between an LEA and a CBO.

Estimated Available Funds: $29,375,000. Contingent upon the availability of funds, we may make additional awards in FY 2005 and subsequent years from the rank-ordered list of unfunded applications from this competition.

Estimated Number of Awards: 195.

Estimated Range of Awards: $100,000-$200,000.

Estimated Average Size of Awards: $150,000.

Note: The Department is not bound by any estimates in this notice.

Project Period: Up to 36 months.

Full Text of Announcement

I. Funding Opportunity Description

Purpose of Program: This program provides assistance to promote mentoring programs for children with greatest need that: (1) Assist these children in receiving support and guidance from a mentor; (2) improve the academic performance of the children; (3) improve interpersonal relationships between the children and their peers, teachers, other adults, and family members; (4) reduce the dropout rate of the children; and (5) reduce juvenile delinquency and involvement in gangs by the children.

Priorities: The following absolute and competitive preference priorities are from the notice of final priorities, requirements, and selection criteria for this program published elsewhere in this issue of the Federal Register. These priorities are for the FY 2004 grant competition and any future awards made on the basis of the funding slate from this competition.

Absolute Priority: This priority is an absolute priority. Under 34 CFR 75.105(c)(3) we consider only applications that meet this priority.

This priority supports projects that address the academic and social needs of children with the greatest need through school-based mentoring programs and activities and provide these students with mentors. These programs and activities must serve children with the greatest need in one or more grades 4 through 8 living in rural areas, high-crime areas, or troubled home environments, or who attend schools with violence problems.

Competitive Preference Priority

Within this absolute priority, we give competitive preference to applications that address the following priority.

Under 34 CFR 75.105(c)(2)(i) we will award an additional five points to an application that meets this priority.

This priority is for applications proposing a consortium of eligible applicants that includes either: (a) At least one LEA and at least one CBO that is not a school and that provides services to youth and families in the community; or (b) at least one private school that qualifies as a nonprofit CBO and at least one other CBO that is not a school and that provides services to youth and families in the community.

The consortium must designate one member of the group to apply for the grant, unless the consortium is itself eligible as a partnership between a LEA and a nonprofit CBO. To receive this competitive preference, the applicant must clearly identify the agencies that comprise the consortium and must include a detailed plan of their working relationship and of the activities that each member will perform, including a project budget that reflects the contractual disbursements to the members of the consortium. For the purpose of this priority, a “consortium” means a group application in accordance with the provisions of 34 CFR 75.127 through 75.129.

Program Authority: 20 U.S.C. 7140.

Applicable Regulations: (a) The Education Department General Administrative Regulations (EDGAR) in 34 CFR Parts 74, 75, 77, 79, 80, 81, 82, 84, 85, 86, 97, 98, 99 and 299. (b) the notice of final priorities, requirements, and selection criteria for this program as published elsewhere in this issue of the Federal Register.

Note: The regulations in 34 CFR Part 86 apply to institutions of higher education only.

II. Award Information

Type of Award: Discretionary grants.

Estimated Available Funds: $29,375,000. Contingent upon the availability of funds, we may make additional awards in FY 2005 and subsequent years from the rank-ordered list of unfunded applications from this competition.

Estimated Range of Awards: $100,000-$200,000.

Estimated Average Size of Awards: $150,000.

Estimated Number of Awards: 195.

Note: The Department is not bound by any estimates in this notice.

Project Period: Up to 36 months.

III. Eligibility Information

1. Eligible Applicants: (1) LEAs; (2) CBOs, which may include faith-based organizations; and (3) a partnership between an LEA and a CBO.

2. Cost Sharing or Matching: This program does not involve cost sharing or matching.

3. Other:

(a) To be eligible for funding, each applicant must include in its application an assurance that it will: (1) Establish clear, measurable performance goals; and (2) collect and report to the Department data related to the established Government Performance and Results Act (GPRA) performance measures for the Mentoring Programs grant competition. We will reject any application that does not contain this assurance.

(b) To be eligible for funding, each community-based organization is also required to provide an assurance that: (a) It is an eligible applicant under the definitions provided in the application package; (b) timely and meaningful consultation with an LEA or private school has taken place during the design and/or development of the proposed program; (c) LEA or private school staff will participate in the identification and referral of students to the CBO's proposed program; and (d) the LEA or private school will participate in the collection of data related to the established GPRA performance measures for the Mentoring Programs grant competition.

Equitable Participation by Private School Children and Teachers

LEAs are required to provide for the equitable participation of private school children, their teachers, and other educational personnel in private schools located in areas served by the grant recipient.

In order to ensure that grant program activities address the needs of private school children, the LEA must engage in timely and meaningful consultation with private school officials during the design and development of the program. This consultation must take place before any decision is made that affects the opportunities of eligible private school children, teachers, and other educational personnel to participate.

In order to ensure equitable participation of private school children, teachers, and other educational personnel, the LEA must consult with private school officials on issues such as: how children's needs will be identified; what services will be offered; how and where the services will be provided; who will provide the services; how the services will be assessed and how the results of assessment will be used to improve those services; the amount of funds available for services; the size and scope of the services to be provided; how and when decisions about the delivery of services will be made; and the provision of contract services through potential third-party providers.

See Section 9501 of the Elementary and Secondary Education Act of 1965, as reauthorized by the No Child Left Behind Act of 2001.

Maintenance of Effort

An LEA may receive a grant under the Mentoring Programs grant competition only if the State educational agency finds that the combined fiscal effort per student or the aggregate expenditures of the agency and the State with respect to the provision of free public education by the agency for the preceding fiscal year was not less than 90 percent of the combined fiscal effort or aggregate expenditures for the second preceding fiscal year.

IV. Application Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA number 84.184B.

Individuals with disabilities may obtain a copy of the application package in an alternative format (e.g., Braille, large print, audiotape, or computer diskette) by contacting the program contact person listed in this section.

2. Content and Form of Application Submission: Requirements and definitions concerning the content of an application are in the notice of final priorities published elsewhere in this issue of the Federal Register. Additional requirements, together with the forms you must submit, are in the application package for this program.

Page Limit: The program narrative section should not exceed 25 double-spaced pages using a standard font no smaller than 12-pt, with 1-inch margins (top, bottom, left, and right). The narrative should follow the format and sequence of the selection criteria.

3. Submission Dates and Times: Applications Available: May 28, 2004.

Deadline for Transmittal of Applications: July 7, 2004.

The dates and times for the transmittal of applications by mail or by hand (including a courier service or commercial carrier) are in the application package for this program. The application package also specifies the hours of operation of the e-Application Web site.

We do not consider an application that does not comply with the deadline requirements.

Deadline for Intergovernmental Review: June 28, 2004.

4. Intergovernmental Review: This program is subject to Executive Order 12372 and the regulations in 34 CFR part 79. Information about Intergovernmental Review of Federal Programs under Executive Order 12372 is in the application package for this program.

5. Funding Restrictions: Grant funds may not be used to (1) directly compensate mentors; (2) obtain educational or other materials or equipment that would otherwise be used in the ordinary course of the grantee's operations; or (3) support litigation of any kind. We reference additional regulations outlining funding restrictions in the Applicable Regulations section of this notice.

6. Other Submission Requirements: Instructions and requirements for the transmittal of applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:

We are continuing to expand our pilot project for electronic submission of applications to include additional formula grant programs and additional discretionary grant competitions. Mentoring Programs—CFDA Number 84.184B is one of the programs included in the pilot project. If you are an applicant under Mentoring Programs, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you elect to participate in the e-Application pilot for Mentoring Programs competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or (b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under FOR FURTHER INFORMATION CONTACT (see VII. Agency Contacts) or (2) the e-GRANTS help desk at 1-888-336-8930.

You may access the electronic grant application for the Mentoring Programs competition at: http://e-grants.ed.gov.

V. Application Review Information

1. Selection Criteria: The selection criteria for this program are in the application package.

2. Review and Selection Process: Additional factors we consider in selecting an application for an award are: (1) The geographic distribution of the projects, including urban and rural locations, in addition to the rank order of applicants; and (2) to the extent practicable, we will select not less than one grant recipient from each State for which there is an eligible entity that submits an application of sufficient quality.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. We may also require more frequent performance reports.

4. Performance Measures: We have identified the following key GPRA performance measures for assessing the effectiveness of this program: (1) The percentage of student/mentor matches that are sustained for a period of twelve months will increase; (2) The percentage of mentored students who demonstrate improvement in core academic subjects as measured by grade point average after 12 months will increase; and (3) The percentage of mentored students who have unexcused absences from school will decrease. To be eligible for funding, each applicant must include in its application an assurance that it will collect and report to the Department data related to the GPRA performance measures for the Mentoring Program.

VII. Agency Contacts

For Further Information Contact: Earl Myers, U.S. Department of Education, 400 Maryland Avenue, SW., room 3E254, Washington, DC 20202-6450. Telephone: (202) 708-8846. Email address: earl.myers@ed.gov.

Bryan Williams, U.S. Department of Education, 400 Maryland Avenue, SW., room 3E259, Washington, DC 20202-6123. Telephone: (202) 260-2391. Email address: bryan.williams@ed.gov.

If you use a telecommunications device for the deaf (TDD), you may call the Federal Information Relay Service (FIRS) at 1-800-877-8339.

Individuals with disabilities may obtain this document in an alternative format (e.g., Braille, large print, audiotape, or computer diskette) on request to the contact persons listed in this section.

VIII. Other Information

Electronic Access To This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO) toll free at 1-888-293-6498; or in the Washington, DC area at (202) 512-1530.

You may also view this document in text or PDF at the following site: http://www.ed.gov/programs/dvpmentoring/applicant.html.

Note: The official version of this document is the document published in the Federal Register. Free Internet access to the official edition of the Federal Register and the Code of Federal Regulations is available on GPO Access at: http://www.gpoaccess.gov/nara/index.html.

Dated: May 26, 2004.
Deborah A. Price,
Deputy Under Secretary for Safe and Drug-Free Schools.

[FR Doc. 04-12209 Filed 5-27-04; 8:45 am]

BILLING CODE 4000-01-U